Title 3—

The President

Proclamation 8963 of April 24, 2013

Honoring the Victims of the Explosion in West, Texas

By the President of the United States of America

A Proclamation

As a mark of respect for the memory of those who perished in the explosion in West, Texas, on April 17, 2013, I hereby order, by the authority vested in me by the Constitution and the laws of the United States of America, that the flag of the United States shall be flown at half-staff at all public buildings and grounds and at all military facilities and naval stations of the Federal Government in the State of Texas on April 25, 2013.

IN WITNESS WHEREOF, I have hereunto set my hand this twenty-fourth day of April, in the year of our Lord two thousand thirteen, and of the Independence of the United States of America the two hundred and thirty-seventh.

[FR Doc. 2013-10224

Filed 4-26-13; 11:15 am]

Billing code 3295-F3